DEPARTMENT OF DEFENSE

Office of the Secretary

[Transmittal No. 23-77]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-77, Policy Justification, and Sensitivity of Technology.

Dated: December 17, 2024.
Stephanie J. Bost,
Alternate OSD Federal Register Liaison Officer, Department of Defense.

BILLING CODE 6001-FR-P

BILLING CODE 6001-FR-C

Transmittal No. 23-77

Notice of Proposed Issuance of Letter of Offer Pursuant to Section 36(b)(1) of the Arms Export Control Act, as amended

(i) Prospective Purchaser: NATO Support and Procurement Agency (NSPA)

(ii) Total Estimated Value:

Major Defense Equipment * | $568 million
Other | $212 million
TOTAL | $780 million

Funding Source: National Funds

(iii) Description and Quantity or Quantities of Articles or Services under Consideration for Purchase:

Major Defense Equipment:

Nine hundred forty (940) FIM-92K Stinger Block I Missiles

Non-MDE:

Also included are Battery Coolant Units (BCU); metal containers; U.S. Government and contractor production, technical, and engineering assistance; and other related elements of logistics and program support.

(iv) Military Department: Army (N4-B-VRL)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: December 22, 2023

* As defined in Section 47(6) of the Arms Export Control Act.

POLICY JUSTIFICATION

NATO Support and Procurement Agency—Stinger Missiles

The NATO Support and Procurement Agency (NSPA), as Lead Nation on behalf of Germany, Italy, and the Netherlands, has requested to buy nine hundred forty (940) FIM-92K Stinger Missiles. Also included are Battery Coolant Units (BCU); metal containers; United States (U.S.) Government and contractor production, technical, and engineering assistance; and other related elements of logistics and program support. The estimated total cost is $780 million.

This proposed sale will support the foreign policy and national security objectives of the U.S. by improving the security of Germany, Italy, and the Netherlands, three NATO Allies.

The proposed sale will improve the air defense capabilities of these three NATO Allies. They will use the system to defend their territorial integrity and to promote regional stability. The proposed sale supports NATO's goal of improving national and territorial defense as well as improving interoperability with U.S. and NATO forces. Germany, Italy, and the Netherlands will have no difficulty absorbing this equipment into their armed forces.

The proposed sale of this equipment and support will not alter the basic military balance in the region.

The prime contractors will be Raytheon, Tucson, AZ, and Lockheed Martin, Syracuse, NY. There are no known offset agreements proposed in connection with this potential sale.

Implementation of this proposed sale will not require the assignment of any U.S. Government personnel or contractor representatives to NATO.

There will be no adverse impact on U.S. defense readiness as a result of this proposed sale.

Transmittal No. 23-77

Notice of Proposed Issuance of Letter of Offer Pursuant to Section 36(b)(1) of the Arms Export Control Act, as amended

Annex

Item No. vii

(vii) Sensitivity of Technology:

1. The Stinger Re-programmable Micro-Processor (RMP) Block I Missile is a lightweight, self-contained air defense system that can be rapidly deployed by ground troops. Its seeker and guidance systems enable the weapon to acquire, track, and engage a target with one shot.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the NSPA and Germany, Italy, and the Netherlands can provide substantially the same degree of protection for the sensitive technology being released as the U.S. Government. This sale is necessary in furtherance of the U.S. foreign policy and national security objectives outlined in the Policy Justification.

5. All defense articles and services listed in this transmittal have been authorized for release and export to NSPA, Germany, Italy, and the Netherlands.

[FR Doc. 2024-30632 Filed 12-23-24; 8:45 am]

BILLING CODE 6001-FR-P